ENVIRONMENTAL PROTECTION AGENCY

[FRL-7648-9]

Environmental Protection Agency, Office of the Administrator, Office of Children's Health Protection, Aging Initiative

Solicitation Title: Protecting the Health of Older Adults by Improving the Environment: Training, Innovation, Outreach and Educational Projects; Initial Announcement.

Funding Opportunity Number: USEPA-AO-OCHP-04-01.

CFDA Number: 66.609 Office of Children and the Aging, Aging Initiative Fiscal Year 2004, Environmental Protection Agency, deadline for the pre-application, June 28, 2004; All applicants must submit a pre-application to be considered for an award.

Solicitation closing date: September 20, 2004, for full proposals invited by EPA.

Table of Contents

Overview

Section I. Funding Opportunity Description

Section II. Award Information

Section III. Eligibility Information

Section IV. Application and Submission Process

Section V. Application Review Information

Section VI. Award Administration Information

Section VII. Agency Contact

Section VIII. Other Information

Overview

A. Summary

The EPA Aging Initiative announces a new grant and cooperative agreement opportunity for Protecting the Health of Older Adults by Improving the Environment: Training, Innovation, Outreach and Educational Projects. Projects must accomplish one of the following five goals: (1) Train older adults, retirees and semi-retirees, to be environmental leaders in their community; (2) Demonstrate new or experimental technologies, methods, or approaches that reduce exposure to environmental health hazards; (3) Build state, local and tribal capacity to protect the health of older adults from environmental hazards; (4) Develop and implement outreach and educational strategies that reduce exposure to environmental health hazards; (5) Demonstrate how smart growth activities can improve the quality of life for older adults while improving environmental quality. Cost sharing or matching contributions are not required. Funds available for these projects are expected to total approximately $200,000. Training, innovation, and outreach projects should address one or more of the following objectives:

• Implement effective leadership training programs for older adults including retirees and semi-retirees to be environmental leaders to address environmental health hazards in their communities.

• Demonstrate new or experimental technologies on risk-reduction strategies on environmental health hazards to older adults.

• Conduct outreach and educational intergenerational programs that engage older adults and children to reduce environmental health hazards in their communities.

• Build state, local and tribal capacity through coordinated efforts by aging, health and the environmental agencies to protect the health of older adults from environmental hazards.

• Demonstrate how smart growth activities can be incorporated in communities to improve the quality of life for older adults while improving environmental quality.

B. Authorities

To be eligible to compete for these funds, applicants must be eligible under at least one of these authorities: Clean Air Act Section 103 (b)(3); Clean Water Act, Section 104(b)(3); Federal Insecticide, Fungicide, and Rodenticide Act Section 20; Solid Waste Disposal Act Section 8001; Safe Drinking Water Act, Section 1442; and Toxic Substances Control Act, Section 10.

C. Background

By 2030, the number of older adults is expected to double to more than 70 million. The nation's older population can be particularly susceptible to health related effects from pollution. For example, research indicates ground level ozone or smog poses a serious health threat for vulnerable populations, including older adults. Surface water runoff can impair drinking water quality and engender harmful health impacts on older adults particularly if they have compromised immune systems. In addition to these health risks, aging adults may have different needs for housing, recreation, health care, and transportation. These needs will increase with the growth of this population, and must be addressed in a manner that will both promote the health of individuals and the environment. EPA's efforts to address environmental issues that affect the health and well-being of the nation's elders have been advanced by a workshop on the “Differential Susceptibility and Exposure of Older Persons to Environmental Hazards” convened by the National Academy of Sciences in December 2002. Public input provided through oral comments from concerned citizens at public listening sessions, meetings, and submitted written comments have contributed to the development of this solicitation.

Many older adults contribute time, energy and expertise to their communities. The U.S. Department of Labor reports that older adults volunteer twice the time of any other age group in their community.¹ EPA encourages the emerging generation of older adults to address environmental concerns in their communities. The participation of older adults is a key element in the EPA's Aging Initiative. EPA believes that retired and semi-retired older adults will be eager to play a central role in protecting the environment and educating their communities and younger generations about environmental hazards that may threaten natural resources and endanger public health. EPA intends to expand and create opportunities for older persons to identify environmental health hazards and environmental needs in their communities. Programs or activities to increase awareness of environmental hazards and their effects on public health will be encouraged. Older adults have the experience, commitment and concern for their environment that will not only preserve the quality of the environment but also the interest in working with younger generations to safeguard their health from environmental hazards. While many organizations respond to community needs, existing and new partnerships between state, local and tribal governments, together with non-profit aging, environmental, health, educational and faith-based organizations are needed to improve the environment.

¹ United States Department of Labor, December 17, 2003, news release, Volunteering in the United States. Data on volunteering was collected through a supplement to the September 2003 Current Population Survey (CPS).

This solicitation will provide information and suggest effective strategies to protect the quality of life for older persons from environmental hazards. Pre-retirees and retirees will play a critical role in this effort. It is expected that many communities will develop outreach and educational intergenerational programs that reduce environmental hazards and improve the environment. According to data from the 2000 Census, 2.4 million grandparents are now the primary caregivers for their grandchildren and children of relatives. The EPA suggests that projects that involve grandparents and grandchildren are appropriate in strengthening bonds within families while acting responsibly for the benefit of the entire community.

Older persons are a vulnerable population with respect to air and water pollution, and research has demonstrated links between development and environmental degradation. Increases in impervious surfaces result in more storm water runoff that directly enters surface waters without being filtered through the soil, potentially contributing to pollution in drinking water. Increasing distances between where people live, work, and shop can contribute to increases in air pollution associated with longer trips.

Opportunities to address these environmental problems and create quality of life benefits for older adults are increased through smart growth practices such as mixing housing types within a community, creating walkable communities, and providing a range of transportation choices. A range of housing types and sizes can make efficient use of land, reduce impervious surface cover, and provide older adults with housing options that meet their needs as they change over time. Communities that offer amenities such as drug stores, libraries, grocery stores and restaurants within walking distance of homes or which are accessible by public transit can shorten vehicle trips and reduce emissions while also providing access, mobility, and independence for those citizens who have difficulty driving. Smart growth practices provide choices that both protect the environment and help people maintain their independence as they age, resulting in environmental benefits and enhanced quality of life.

D. Important Dates

(1) All questions must be submitted in writing no later than June 18, 2004 to the following address aging.info@epa.gov. Questions and responses will be posted at: www.epa.gov/aging/grants.htm.

(2) Deadline for pre-application, June 28, 2004.

(3) EPA will notify applicants eligible to proceed with submitting a full proposal on or before August 16, 2004.

(4) Deadline for submission of full proposals: September 20, 2004.

Section I. Funding Opportunity Description

A. Funding Priorities

This solicitation will support efforts to protect the health of older adults and the environment. This is an initial announcement for Protecting the Health of Older Adults by Improving the Environment: Training, Innovation, Outreach and Educational Projects. It is expected that these funds will assist in building local, state or tribal capacity to reduce environmental hazards that may affect the health of older persons. EPA expects to award these grants under the following six grant authorities: Clean Air Act section 103(b)(3); Clean Water Act section 104 (b)(3); Resource Conservation and Recovery Act section 8001; Toxics Substances Control Act section 10; Federal Insecticide, Fungicide, and Rodenticide Act section 20; and Safe Drinking Water Act sections 1442(a) and (c). In addition to the program criteria listed below, a proposal must meet the following two important threshold criteria to be considered for funding:

Threshold Criterion #1. A project must consist of activities authorized under one or more of the six EPA grant authorities cited above. Most of the statutes authorize grants for the following activities: “research, investigations, experiments, training, demonstrations, surveys and studies.” These activities relate generally to the gathering or transferring of information or advancing the state of knowledge. Grant proposals should emphasize this “learning” concept, as opposed to “fixing” an environmental problem via a well-established method. For example, a proposal to plant some trees in an economically depressed area in order to prevent erosion would probably not in itself fall within the statutory terms “research, studies, demonstrations,” etc., nor would a proposal to start a routine recycling program. The project's activities must advance the state of knowledge or transfer information. The statutory term “demonstration” can encompass the first instance of the application of pollution control and prevention techniques, or an innovative application of a previously used method. The term “research” may include the application of established practices when they contribute to “learning” about an environmental concept or problem.

Threshold Criterion #2. In order to be funded, a project's focus generally must be one that is specified in the statutes listed above. For most of the statutes, a project must address the causes, effects, extent, prevention, reduction, and elimination of air, water, or solid/hazardous waste pollution, or, in the case of grants under the Toxic Substances Control Act or the Federal Insecticide, Fungicide and Rodenticide Act, to “carrying out the purposes of the Act.” The overarching concern or principal focus must be on the statutory purpose of the applicable grant authority, in most cases “to prevent or control pollution.” In light of this, proposals relating to other topics which are sometimes included within the term “environment” such as recreation, conservation, restoration, protection of wildlife habitats, etc., should describe the relationship of these topics to the statutorily required purpose of pollution prevention and/or control. Proposals are encouraged under any of the categories described below. Products may include, but are not limited to, policy papers, case studies, workshops, educational materials, or on-site demonstrations. Grants or cooperative agreements will be considered in following categories: Projects that (1) Develop and implement outreach programs and educational strategies for risk reduction of environmental health hazards to older adults; (2) Foster development of civic engagement programs by older adults to address environmental hazards; (3) Engage socioeconomically disadvantaged elders in health promotion activities related to the environment; (4) Conduct outreach and educational intergenerational projects that address improve environmental quality and public health; and (5) Promote healthy communities for older adults through smart growth activities.

Threshold Criterion #3. Proposals must address one of the five following funding priorities.

(1) Implement Effective Training Programs for Older Adults To Be Environmental Leaders in Their Communities (Grants)

Possible areas for activities include but are not limited to: Establish academic institutional programs that train older adults, retirees and semi-retirees, in environmental stewardship; incorporate environmental health in older worker programs; train socio-economically disadvantaged elders to conduct outreach and education on environmental issues in their communities.

(2) Develop and Implement Outreach and Educational Strategies on Risk Reduction of Environmental Health Hazards to Older Adults (Grants)

Possible areas for activities include but are not limited to: Partnerships with health professionals or health, state, local or tribal agencies to raise awareness of environmental triggers for chronic conditions; public service campaigns to address indoor and outdoor air quality and extreme temperatures; educational workshops for older adults regarding environmental hazards in the home and the garden; conduct an environmental health needs assessment for older minorities of environmental hazards in the community; develop best practice guides that address toxicants in senior housing and naturally occurring retirement communities (integrated pest management programs); establish environmental guidelines for elder friendly communities; develop a targeted educational campaign to disseminate the annual local water drinking water quality reports to older adults and raise awareness of potential environmental contaminants (see www.epa.gov/ogwdw/ccr/ccrfact.htm).

(3) Conduct Outreach and Educational Intergenerational Programs That Engage Older Adults and Children to Address Environmental Health Hazards (Grants)

Possible outreach and educational areas include but are not limited to raising awareness of the benefits of using non-chemical and alternatives to pesticides in community gardens; raising awareness of recycling programs in the community for items such as batteries, mercury thermometers, cell phones or other electronic equipment.

(4) Build State Capacity Among State, Local and Tribal Agencies of Aging, Health and the Environment of State and Tribal Agencies to Protect the Health of Older Adults From Environmental Hazards (Grants)

Possible areas for activities include but are not limited to: Establishing an interagency task force that prioritizes and addresses the leading environmental health problems in their state; convening a state-wide or tribal summit on environmental health hazards, such as environmental triggers for COPD and asthma, to older adults and preparing a plan of action to address these hazards; and developing an annual report on the state of the environmental health of older adults.

(5) Promote Healthy Communities for Older Adults Through Smart Growth Activities (Cooperative Agreements)

Foster healthy communities and healthy lifestyles through transportation choice. Possible areas for activities to show the value of decreasing the number of vehicle trips (VTs) and vehicle miles traveled (VTM) include but are not limited to: Decreasing VTs and VTM by increasing awareness of design strategies to maximize pedestrian comfort; design charettes to improve pedestrian and street networks by improving the connectivity of important uses through trails and walking paths; develop studies that examine policies to encourage older persons reduce single occupancy vehicles and opt for public transportation due to changes made that include trip frequency, or upgrades to buses for accommodating passengers with disabilities.

Encourage compact, mixed use neighborhoods with a range of affordable, environmentally friendly housing choices for older persons. Possible areas for activities to show the value of decreasing VT and VTM include but are not limited to: Workshops to educate older adults about how density creates walkable neighborhoods, support housing choice and affordability, expand transportation choice, and improve neighborhood security; prepare case studies on successful integration of mixed uses into existing communities to meet the needs of older persons for services within walking or biking distance; demonstrate traffic design enhancements that support mobility and safety of older persons (i.e., longer signals, traffic calming measures, reduced street widths, modified medians).

Encourage community and stakeholder collaboration in development decisions. Possible areas for activities include but are not limited to: Develop a program that encourages older adults to engage in community livability assessments to identify and address issues related to creating environmentally preferable communities that improve environmental quality and public health; create and distribute videos to educate all generations about the importance of open space to improve environmental quality and public health; develop educational and outreach programs that showcase effective land use, improved air and water quality through smart growth strategies; initiate outreach programs to inform older persons on how compact, mixed used neighborhoods can grant residents the opportunity to live in neighborhoods that meet their lifestyle preferences and economic means and can reduce VT and VMT while improving regional water quality.

B. Grants

The demonstration, training or outreach and educational projects will address one of the following principal goals: (1) Train older adults in environmental stewardship; (2) Develop and implement outreach programs and educational strategies for risk reduction of environmental health hazards to older adults; (3) Foster development of civic engagement programs by older adults to address environmental hazards; and (4) Demonstrate intergenerational projects that address environmental health and ecological well-being.

C. Cooperative Agreements

(1) Demonstrate how smart growth activities can improve the quality of life for older adults while improving environmental quality.

Section II—Award Information

Funds available for these projects are expected to total approximately $200,000. Grants and cooperative agreements are expected to be awarded to approximately eight and 15 entities. Proposals for less than $15,000 or greater than $25,000 will not be considered. The awards will vary depending upon solicitation priorities, proposal quality and level of activity, and resource availability. EPA reserves the right to make no awards. It is expected that grants or cooperative agreements will begin in the fall of 2004 and be completed no later than the fall of 2006. If the applicant chooses to submit an application for a cooperative agreement, the agency will have substantial involvement in the project. Cooperative agreements entail substantial federal involvement in the project. The applicant must define the Agency's role in the proposal. Such involvement may include EPA review and approval of project scope and phases; EPA participation in and collaboration on, various phases of the work; EPA review of all draft and final products; regular e-mail, phone, and conference calls.

Section III—Eligibility Information

A. Eligible Applicants

Eligible applicants include: State, local, tribal governments, including environmental, health and aging departments, academic institutions and non-profit organizations. Applicants must be eligible under at least one of these authorities: Clean Air Act Section 103 (b)(3); Clean Water Act, Section 104 (b)(3); Federal Insecticide, Fungicide, and Rodenticide Act Section 20; Solid Waste Disposal Act Section 8001; Safe Drinking Water Act, Section 1442; or Toxic Substances Control Act, Section 10. Applicants may only submit one pre-application proposal. Applicants must comply with Executive Order 12372. “Intergovernmental Review of Federal Programs.”

B. Cost Sharing or Matching

Cost sharing or matching funds are not required for this solicitation.

C. Other Eligibility Criteria

(1) Responsible Officials. Projects must be performed by the applicant or by a person approved by the applicant and EPA. Proposals must identify the person(s) rather than the applicant who will assist in carrying out the project. These individuals are responsible for receiving the grant award agreement from EPA and ensuring that grant conditions are satisfied. Recipients are responsible for the successful completion of the project.

(2) Incurring Costs. Pre-award costs will not be covered by this solicitation. Grant recipients may begin incurring allowable costs on the date identified in the EPA grant award agreement. Activities must be completed and funds spent within the time frames specified in the award agreement. EPA grant funds may be used only for the purposes set forth in the grant agreement and must conform to the Federal cost principles contained in OMB Circular A-87; A-122; and A-21, as appropriate. Ineligible costs will be reduced from the final grant award.

(3) Multiple Proposals: Organizations may submit only one proposal for this solicitation.

(4) Deadlines Pre-applications must be received by June 28, 2004. Late submissions will not be reviewed.

Section IV—Application and Submission Information

A. Address To Request Application Package

This solicitation notice contains all of the instructions needed for preparing the pre-application proposal. While there are no required application forms or kits, there are format and content requirements which are described under Section IV (2), “Content and Form Application Submission.” Paper copies of this announcement can be obtained by contacting the EPA personnel listed in Section VII. Electronic copies will be available on the Aging Web site. Due to continued mail delays in the Washington, DC area, pre-applications are strongly encouraged to be sent by way of a private shipping company (e.g., Federal Express, UPS, DHL, or courier) to the attention of Kathy Sykes, U.S. EPA, Office of Children's Health Protection, the Aging Initiative, Room 2512 N, 1200 Pennsylvania Avenue, NW., Washington, DC 20004-2403.

B. Content and Form of Application Submission Required

Pre-Application: Required Contents: The pre-application package must include all of the following items: 1. Summary cover page; 2. Federal forms SF-424 and SF424A (Section B-Budget Categories); 3. Budget narrative; 4. Project narrative; 5. Brief resume or bio of the Principal Investigator or Project Director; and 6. Appendices, as appropriate. The pre-application package is limited to no more than ten pages, excluding the SF-424 and SF424A, and the appendices. Pages must be letter-sized (8½ x 11 inches) and legible. Margins are not specified. Please submit an original and six copies of the pre-application package.

(1) Summary Cover Page (no more than one page).

The summary information page should be one-page long and include the following information:

(a) Making a Difference for the Environment and the Health of Older Adults: Training, Innovation, Outreach and Educational Projects USEPA-AO-OCHP-04-01;

(b) Project title and location;

(c) Applicant's name, address, telephone and fax numbers, and e-mail address;

(d) Name and title of project contact (including how to reach if different from above);

(e) Type of applicant organization (e.g., nonprofit, government agency, etc.) non-profit number.

(f) Total budget request, dollar amount, from U.S. EPA for this project);

(g) Brief abstract of the proposal (5 to 10 lines).

(2) Completed the SF-424 and the SF 424A (Section B—Budget Categories) For federal government forms; Budget Forms and Understanding Cost Principles for a Federal grant: See http://www.epa.gov/aging/grants.html or http://www.whitehouse.gov/omb/images/logo_omb.gif;

(3) Budget narrative (up to 2 pages);

Describe how funds will be used for specific items and activities. Your budget should include some if not all of the following major categories of expenses: personnel (salaries and fringe), travel, equipment, supplies, contract costs, and total direct and indirect costs. EPA will not pay for speaker honorariums.

(4) Project Narrative (up to 6 pages).

(i) Description of the lead organization for the project;

(ii) Brief summary statement of the project's concept, goals and objectives;

(iii) Identification of the funding priority addressed by the project (see Section I);

(iv) Brief summary of the method that will be used to achieve the project goals; and

(v) Brief Summary of the kinds of activities that will be funded by the project. Describe precisely what your project will achieve. In your narrative, be sure to answer these questions in the following order:

(aa) Who will conduct the project? What experience do you and or your partners have in addressing environmental health hazards? What is the nature of your on-going programs addressing environmental health or smart growth issues? If this is a partnership, what will be the roles and responsibilities of each partner? Who will be affected by and/or benefit from the project? How will older adults be targeted, identified, and recruited?

(bb) What is the identified need in the community for this project and how was that need determined?

(cc) What is the purpose of the project? Explain your strategy—your goals and objectives, the specific activities that will be conducted to achieve them, and your projected outcomes. How will you evaluate the results and the level of success? Describe any mechanisms for tracking project outputs (e.g. how many older adults were trained, how many home, or facility assessments were conducted? and evaluating project outcomes (e.g. the effectiveness of the education and mitigation methods, the level of increased awareness, number of persons trained); How will the project be sustained beyond the life of the EPA grant?

(dd) How will project's deliverables and/or findings be disseminated?

(ee) All projects must be completed prior to September 30, 2006. Outline a detailed time line/responsibility matrix to link your project activities to a clear project schedule. Indicate at what point over the months of your budget period each action, project outcome or milestone occurs and indicate who is responsible for each action.

(5) Brief resume or bio of Principal Investigator or Project Director (no more than one page).

(6) Appendices: As appropriate and relevant, include letters of commitment from all major partners, state environmental, health, and aging departments or other organizations. Remember to include resumes or biographical sketches for key personnel, other than the Principal Investigator as appendices. Be sure letters of commitment focus on the partner's role in the proposed project. Do not include any materials other than letters of commitment and information on key personnel.

C. Full Proposals If Invited by EPA

1. Contents

The EPA Application Kit for Federal Assistance can be obtained at http://www.epa.gov/aging/grants.html or at http://www.epa.gov/ogd/grants/how_to_apply.htm.

2. DUNS Instructions

Grant applicants are required to provide a Dun and Bradstreet (D&B) Data Universal Numbering System (DUNS) number when applying for Federal grants or cooperative agreements. The DUNS number will supplement other identifiers required by statute or regulation, such as tax identification numbers. Organizations can receive a DUNS number in one day, at no cost, by calling the dedicated toll-free DUNS Number request line at 1-866-705-5711. Individuals who would personally receive a grant or cooperative agreement award from the Federal government apart from any business or non-profit organization they may operate are exempt from this requirement. The Web site where an organization can obtain a DUNS number is: http://www.dnb.com. This process takes 30 business days and there is no cost unless the organization requests expedited (1-day) processing, which includes a fee of $40.

3. Dates and Deadlines

(a) All questions must be submitted in writing by no later than June 18, 2004, to the following address: aging.info@epa.gov. EPA will post responses to questions at: http://www.epa.gov/aging/grants.htm. EPA will not respond to questions by phone or fax.

(b) Deadline for pre-application: Monday, June 28, 2004. U.S. EPA must receive proposals by 5 p.m. eastern standard time (e.s.t.), Monday, June 28, 2004. No late proposals will be accepted. No fax or e-mail submissions will be accepted. Postmarks or meter stamps will not be sufficient documentation of on-time delivery.

(c) Confirmation of receipt of pre-application package will be issued by email not more than seven business days after receipt by the Agency.

(d) EPA will notify applicants eligible to proceed with submitting a full proposal on or before August 16, 2004.

(e) Deadline for submission of full proposals: September 20, 2004.

(f) Applicants will receive an e-mail notification of receipt of the full proposal within 30 days of receipt by the Agency.

(g) Announcement of selected projects: fall 2004.

4. Intergovernmental Review

Applicants may be subject to Executive Order 12372. “Intergovernmental Review of Federal Programs” See http://www.whitehouse.gov/omb/grants/spoc.html for more details.

5. Other Submission Requirements

Please do not submit additional items. Unnecessary materials (cover letters, un-requested forms or binders) create extra burden for the reviewers and failure to follow instructions may lower your score. To ensure fair and open competition, EPA will respond to questions submitted by email through June 21, 2004. Send questions to aging.info@epa.gov. Questions and responses will be posted no later than two working days at: http://www.epa.gov/aging/grants.htm.

Section V—Application Review Information

A. Administrative Review

The pre-application package will undergo an initial administrative review that will cover eligibility, threshold criteria, completeness and timeliness (see deadline above).

B. Review and Selection Process for Pre-Application Proposals (Maximum Score: 100 points)

(1) Applications that pass the administrative review will be evaluated by a team of reviewers. Reviewers will score each full proposal based on how well it:

(a) Demonstrates a proven track record and is viewed as an authority in working on the issues dealt with in the pre-application proposal. The project must demonstrate that the recipient has the personnel skills and experience necessary to ensure success. (20 points)

(b) Demonstrates the project (1) Addresses a clear and previously unmet significant community need; (2) identifies who will benefit from the project; (3) involves the community in planning for and execution of the project; (4) provides lasting results. (20 points)

(c) Establishes reasonable/realistic goals and objectives (including reasonable time frames); (1) Clearly outlines a cogent strategy for achieving, tracking, and demonstrating meaningful environmental results; (2) outlines how project's results will be evaluated; and (3) outlines how the project will be sustained beyond the funding cycle. (10 points)

(d) Provides a mechanism for disseminating project results, such as product deliverables and lessons-learned, ability to be replicated in and disseminated to appropriate audiences. (15 points)

(e) Outlines a clear and cost effective budget for proposed project (10 points).

(f) Overall likely success and value of the project (10 points).

(g) Demonstrates effective and substantial involvement of older adults in all aspects of the project. Includes a diverse team of older adults with expertise, experience and skills (15 points).

(2) Other Factors:

Selecting officials may also select applications based on geographical location, program balance and diversity. For geographical location selecting officials will consider the location of the projects as they relate to EPA regions. Selecting officials will also look for urban and rural demonstration projects. Based on the funding priorities described in Section I, a variety of priorities will be considered to achieve program balance. Socio-economic need may also be considered a criteria for selection of pre-application proposals.

Section VI—Award Administration Information

A. Award Notices

Successful pre-applicants will be notified on or about August 16, 2004. Unsuccessful applicants will be informed through a letter or fax sent to the Project Director provided by the applicant in the pre-application proposal by August 30, 2004. For successful applicants who are asked to submit a full proposal, you can expect to receive a written notice signed by the EPA grants officer in the fall of 2004. Successful applicants must receive this document before the award can draw funds. This document will serve as the authorizing document. The award notice will be faxed to the key contact that the applicant in the full proposal.

B. Administrative Requirements

Reporting requirements include the standard quarterly financial and performance reports, a quality assurance plan if environmental data is collected. The quarterly reports can be submitted by e-mail, followed by a hard copy that is signed and shipped by a private company or through the postal service.

C. Reports and Work Products

Financial and other reporting requirements will be identified in the EPA grant award agreement. Grant recipients must submit formal quarterly progress reports, unless otherwise instructed in the award agreement. If environmental information is collected then a quality assurance plan may be required. Two copies of the final report and two copies of all work products must be sent to the EPA project officer within 90 days after the expiration of the budget period. This submission will be accepted as the final requirement, unless the EPA project officer notifies you that changes must be made.

Section VII. Agency Contact

Kathy Sykes, Senior Advisor, Aging Initiative, U.S. EPA, Office of Children's Health Protection, 1200 Pennsylvania Ave, NW., Room 2512 Ariel Rios North, Washington, DC 20004-2403, sykes.kathy@epa.gov, phone: (202) 564-3651, fax: (202) 564-2733, Web site: www.epa.gov/aging.

Section VIII. Other Information

A. Resources

First time Federal fund recipients are encouraged to familiarize themselves with the regulations applicable to assistance agreements found in the Code of Federal Regulations (CFR) Title 40, Part 31 for State and local government entities. See http://www.epa.gov/docs/epacfr40/chapt-I.info/subch-B.html. You may also obtain a copy of the CFR Title 40, Part 31 at your local U.S. Government Bookstore, or through the U.S. Government Printing Office.

B. Regulatory References

EPA's general assistance regulations at 40 CFR part 31 apply to state governments.

C. Dispute Resolution Process

Procedures are in 40 CFR 30.63 and 40 CFR 31.70.

D. Shipping and Mailing Addresses and Information

Applicants who need more information about this grant or clarification about specific requirements of this solicitation notice, should periodically check the web page for posted information http://www.epa.gov/aging/grants.html.

Dated: April 12, 2004.
William H. Sanders III,
Acting Director, Office of Children's Health Protection.

[FR Doc. 04-8678 Filed 4-15-04; 8:45 am]

BILLING CODE 6560-50-U